DEPARTMENT OF HOMELAND SECURITY

Coast Guard

33 CFR Part 117

[Docket No. USCG-2013-0167]

Drawbridge Operation Regulations; Atlantic Intracoastal Waterway, Wrightsville Beach, NC and Northeast Cape Fear River, at Wilmington, NC

AGENCY: Coast Guard, DHS.

ACTION: Notice of deviation from drawbridge regulations.

SUMMARY: The Coast Guard has issued a temporary deviation from the operating schedules that govern two of North Carolina Department of Transportation (NCDOT) bridges: The S.R. 74 Bridge, across the Atlantic Intracoastal Waterway (AIWW), mile 283.1, at Wrightsville Beach, NC, and the Isabel S. Holmes Bridge across the Northeast Cape Fear River, mile 1.0, at Wilmington, NC. This deviation is necessary to accommodate the 6th annual PPD Beach2Battleship iron and half iron distance triathlons. This deviation allows both drawbridges to remain in the closed position during the race.

DATES: This deviation is effective from 7 a.m. to 6 p.m. on October 26, 2013.

ADDRESSES: The docket for this deviation, [USCG-2013-0167] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Kashanda Booker, Coast Guard; telephone 757-398-6227, email Kashanda.L.Booker@uscg.mil. If you have questions on viewing the docket, call Barbara Hairston, Program Manager, Docket Operations, telephone 202-366-9826.

SUPPLEMENTARY INFORMATION: The Wilmington Family YMCA, on behalf of NCDOT who owns and operates both the Isabel S. Holmes and the S.R. 74 bridges, has requested a temporary deviation from the current operating regulations set out in 33 CFR 117.829 (a) and 33 CFR 117.821(a)(4), respectively.

Due to changes in the event times, the following drawbridges will now be closed to navigation to accommodate the 6th annual PPD Beach2Battleship iron and half iron distance triathlons on Saturday, October 26, 2013: the Isabel S. Holmes Bridge from 10:30 a.m. to 6 p.m.; and the S.R.74 Bridge from 7 a.m. to 11:30 a.m.

There are no alternate routes for vessels transiting these sections of the Northeast Cape Fear River and the AIWW. The drawbridges will be able to open in the event of an emergency.

The majority of the vessels that transit through these bridges during this time of year are primarily recreational boats. The Coast Guard will inform all users of the waterways through our Local and Broadcast Notice to Mariners of the closure periods for the drawbridges so that vessels can arrange their transits to minimize any impacts caused by the temporary deviation.

In accordance with 33 CFR 117.35(e), the drawbridge must return to its regular operating schedule immediately at the end of the designated time period. This deviation from the operating regulations is authorized under 33 CFR 117.35.

Dated: March 19, 2013.
Waverly W. Gregory, Jr.,
Bridge Program Manager, Fifth Coast Guard District.

[FR Doc. 2013-07148 Filed 3-27-13; 8:45 am]

BILLING CODE 9110-04-P